NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board, National Science Foundation (NSF).

Date and Time: Wednesday, February 6, 2008, at 8:45 a.m.; and Thursday, February 7, 2008 at 9 a.m.

Place: National Science Foundation, 4201 Wilson Blvd., Room 1235, Arlington, VA 22230. All visitors must report to the NSF visitor desk at the 9th and N. Stuart Streets entrance to receive a visitor's badge.

Status: Some portions open, some portions closed.

Open Sessions

February 6, 2008

8:45 a.m.-9:30 a.m.

9:30 a.m.-10:15 a.m.

10:15 a.m.-11:15 a.m.

11:15 a.m.-12 noon

1:30 p.m.-2:30 p.m.

2:30 p.m.-3:30 p.m.

3:30 p.m.-3:50 p.m.

February 7, 2008

9 a.m.-9:30 a.m.

10:15 a.m.-11:15 a.m.

11:15 a.m.-12 noon

1 p.m.-2 p.m.

Closed Sessions

February 7, 2008

9:30 a.m.-10 a.m.

10 a.m.-10:10 a.m.

10:10 a.m.-10:15 a.m.

Agency Contact: Dr. Robert E. Webber, rwebber@nsf.gov, (703) 292-7000, http://www.nsf.gov/nsb/.

Matters To Be Discussed:

Wednesday, February 6, 2007

CSB Task Force on Cost Sharing

Open Session: 8:45 a.m.-9:30 a.m.

• Approval of Minutes.

• Task Force Chairman's Remarks.

• Discussion of Board February 9, 2008 Report to Congress on Cost Sharing Policies at the National Science Foundation.

• Discussion of Next Steps for Task Force Study of Cost Sharing.

CPP Task Force on Sustainable Energy

Open Session: 9:30 a.m.-10:15 a.m.

• Approval of Minutes for December 2007 Meeting.

• Task Force Co-Chairmen's Remarks.

• Discussion of the Task Force Roundtable (February 8, 2008).

• Discussion of “The Challenge of Sustainable Energy: A Background Paper for the National Science Board Task Force on Sustainable Energy.”

• Discussion of Upcoming Task Force Activities.

CPP Subcommittee on Polar Issues

Open Session: 10:15 a.m.-11:15 a.m.

• Approval of December Minutes.

• SOPI Chairman's Remarks.

• OPP Director's Report.

• Planning Towards a Multinational Polar Infrastructure Network.

• Antarctic Support Contract Re-bid.

• Changing Freshwater Cycle in the Arctic.

• Video of the South Pole Station Dedication.

Committee on Programs and Plans

Open Session: (11:15 a.m.-12 noon)

• Transformative Research and Basic Biology Concepts.

Open Session: (1:30 p.m.-2:30 p.m.)

• Approval of Minutes.

○ December 5, 2007 Meeting.

○ January 10, 2008 Teleconference.

• Committee Chairman's Remarks.

• Status Reports:

○ Subcommittee on Polar Issues.

○ Task Force on Sustainable Energy.

○ Task Force on International Science.

• Approval of Minutes.

○ Task Force on International Science, December 5, 2007 Meeting.

• Discussion Item: NSB Report to Congress on Pre-construction Funding and Maintenance and Operations Costs for MREFC projects.

• Discussion Item: Board Policy on Competition, Recompetition, and Renewal of NSF Awards.

Committee on Strategy and Budget

Open Session: 2:30 p.m.-3:30 p.m.

• Approval of CSB Minutes, December 6, 2007.

• Committee Chairman's Remarks.

• Status Report: CSB Task Force on Cost Sharing.

• Discussion of Limiting Proposals from a Single Institution.

• Discussion of the NSF FY 2008 Appropriations and FY 2009 Budget Request.

• Discussion of NSF Average Award Size, Duration, and Proposal Success Rate.

Executive Committee

Open Session: 3:30 p.m.-3:50 p.m.

• Approval of Minutes for August 2007.

• Executive Committee Chairman's Remarks.

• Updates or New Business from Committee Members.

Thursday, February 7, 2008

Audit and Oversight Committee

Open Session: 9 a.m.-9:30 a.m.

• Approval of Minutes of the December 5, 2007 Meeting.

• Committee Chairman's Opening Remarks.

• Chief Financial Officer's Update.

Closed Session: 9:30 a.m.-10 a.m.

• Pending Investigations.

Plenary Executive Closed

Closed Session: 10 a.m.-10:10 a.m.

• Approval of December 2007 Minutes.

Plenary Closed

Closed Session: 10:10 a.m.-10:15 a.m.

• Approval of December 2007 Minutes.

• Closed Committee Reports.

EHR Subcommittee on Science & Engineering Indicators

Open Session: 10:15 a.m.-11:15 a.m.

• Approval of December Minutes.

• Chairman's Remarks.

• Report on S&E Indicators 2008 Rollout.

• Presentation on Innovation Measurement: Tracking the State of Innovation in the American Economy.

• Science and Engineering Indicators 2010.

• Presentation on Electronic “Digest.”

• Chairman's Summary.

Plenary Session

Open Session: 11:15 a.m.-12 noon

• Approval of December 2007 Minutes.

• Resolution to Close March 2008 Meeting.

• Chairman's Report.

• Director's Report.

• Open Committee Reports.

Plenary Session

Open Session: 1 p.m.-2 p.m.

• Outcomes of NSF-Funded Research.

Russell Moy,
Attorney-Advisor.

[FR Doc. E8-1798 Filed 1-30-08; 8:45 am]

BILLING CODE 7555-01-P